FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Termination
ET date | Trans No. | ET req status | Party name
06-DEC-10 | 20110047 | G | Danaher Corporation.
|  | G | Keithley Investment Company Limited Partnership.
|  | G | Keithley Instruments, Inc.
| 20110222 | G | Cubic Corporation.
|  | G | Richard Hollis Helms.
|  | G | Abraxas Corporation.
07-DEC-10 | 20110254 | G | Nordic Capital Fund V Ltd.
|  | G | Dan Richardson.
|  | G | Care Ambulance Service, Inc.
| 20110255 | G | Nordic Capital Fund V Ltd.
|  | G | Rick Richardson.
|  | G | Care Ambulance Service, Inc.
| 20110281 | G | Regal Beloit Corporation.
|  | G | Unico, Inc.
|  | G | Unico, Inc.
| 20110283 | G | Energy Capital Partners II-A, LP.
|  | G | Milford Holdings LLC.
|  | G | Milford Holdings Corporation.
|  | G | Milford Power Company, LLC.
| 20110285 | G | TA XI L.P.
|  | G | Theodore R. Casey.
|  | G | Dymatize Enterprises, Inc.
| 20110292 | G | NC VII Limited.
|  | G | Carlyle Europe Partners II, L.P.
|  | G | Britax Childcare Holdings Limited.
| 20110299 | G | West Rim Capital Partners II, L.P.
|  | G | Kevin R. Elder.
|  | G | Cell Adjustment, LLC.
|  | G | Cell Brokerage, LLC.
|  | G | Go Wireless, Inc.
| 20110300 | G | AGS Acquisition Co.
|  | G | Advantage Sales & Marketing Holdings, LLC.
|  | G | ASM Intermediate Holdings Corp. II.
| 20110301 | G | Berkshire Fund VII, L.P.
|  | G | Metalmark Capital Partners, L.P.
|  | G | MD Investment Holdings, Inc.
|  | G | Melissa & Doug, LLC.
| 20110313 | G | News Corporation.
|  | G | Wireless Generation, Inc.
|  | G | Wireless Generation, Inc.
08-DEC-10 | 20110272 | G | Juniper Networks, Inc.
|  | G | Belden Inc.
|  | G | Trapeze Networks, Inc.
| 20110302 | G | Donata Holding SE.
|  | G | Miriam Schaeffer.
|  | G | OPI Products Inc.
| 20110306 | G | Zensar Technologies, Ltd.
|  | G | PSI Holding Group, Inc.
|  | G | PSI Holding Group, Inc.
10-DEC-10 | 20110284 | G | Hudson Clean Energy Partners, L.P.
|  | G | SoloPower, Inc.
|  | G | SoloPower, Inc.
| 20110310 | G | Chevron Corporation.
|  | G | Atlas Energy, Inc.
|  | G | Atlas Energy, Inc.
| 20110316 | G | Christopher E. MacAllister.
|  | G | Jerrold M. Jung.
|  | G | Michigan Tractor and Machinery Company, Inc.
| 20110332 | G | Riverstone/Carlyle Global Energy and Power Fund IV(FT), L.P.
|  | G | USA Compression Holdings, LP.
|  | G | USA Compression Holdings, LP.
| 20110345 | G | Primus Capital Fund VI, LP.
|  | G | Vendormate, Incorporated.
|  | G | Vendormate, Incorporated.
| 20110347 | G | Grey Mountain Partners Fund II, L.P.
|  | G | Philippe Delouvrier.
|  | G | Industrial Insulation Group, LLC.
| 20110349 | G | Endeavour Capital Fund V, L.P.
|  | G | Craig Hill 1991 Revocable Trust.
|  | G | Nor-Cal Products, Inc.
| 20110350 | G | Graeme R. Hart.
|  | G | Carlyle Partners III, L.P.
|  | G | UCI International, Inc.
| 20110355 | G | Norfolk Southern Corporation.
|  | G | DTE Energy Company.
|  | G | Belle River Fuels Company, LLC.
| 20110364 | G | ABRY Partners VI, L.P.
|  | G | TWCP, L.P.
|  | G | TSI Holding Co., Inc.
13-DEC-10 | 20110144 | G | PeaceHealth.
|  | G | Southwest Washington Health System.
|  | G | Southwest Washington Medical Center.
|  | G | Southwest Washington Medical Center Foundation.
| 20110227 | G | Texas Health Resources.
|  | G | PhyServe Holdings Inc.
|  | G | PhyServe Holdings Inc.
| 20110231 | G | Texas Health Resources.
|  | G | Clay Heighten, M.D.
|  | G | Medical Edge Healthcare Group, P.A.
| 20110336 | G | Everest Re Group, Ltd.
|  | G | Michael A. Miller.
|  | G | Heartland Crop Insurance, Inc.
| 20110338 | G | Brynwood Partners VI L.P.
|  | G | The Procter & Gamble Company.
|  | G | The Procter & Gamble Company.
| 20110344 | G | Oak Hill Capital Partners III, L.P.
|  | G | Friedman Fleischer & Lowe Capital Partners II, L.P.
|  | G | Guardian Home Care Holdings, Inc.
| 20110370 | G | The 2001 Wasserstein Family Trust.
|  | G | Ascent Media Corporation.
|  | G | Ascent Media Network Services Europe Limited.
|  | G | Ascent Media Network Services, LLC.
|  | G | Ascent Media Pte. Ltd.
14-DEC-10 | 20110238 | G | Dabur India Limited.
|  | G | Gary E. Gardner.
|  | G | Namaste Laboratories, L.L.C.
| 20110252 | G | Energy XXI (Bermuda) Limited.
|  | G | Exxon Mobil Corporation.
|  | G | Mobile Eugene Island Pipeline Company.
|  | G | Exxon Mobil Pipeline Company.
|  | G | Mobil Oil Exploration & Producing Southeast Inc.
| 20110256 | G | Humana Inc.
|  | G | Welsh, Carson, Anderson & Stowe VIII, L.P.
|  | G | Concentra Inc.
| 20110271 | G | Li & Fung Limited.
|  | G | Oxford Industries, Inc.
|  | G | Oxford Industries, Inc.
| 20110287 | G | Donata Holding SE.
|  | G | Carlyle Partners IV, L.P.
|  | G | Philosophy Acquisition Company, Inc.
| 20110291 | G | Chicago Growth Partners II, L.P.
|  | G | Excellere Capital Management LLC.
|  | G | Advanced Pain Management Holdings, Inc.
| 20110312 | G | ABRY Partners VI, L.P.
|  | G | Odyssey Investment Partners Fund III, LP.
|  | G | York Insurance Holdings, Inc.
| 20110317 | G | Water Street Healthcare Partners II, L.P.
|  | G | Johnson & Johnson.
|  | G | OraPharma, Inc.
| 20110368 | G | H.I.G. Bayside Debt & LBO Fund II, L.P.
|  | G | The Estate of Robert H. Brooks.
|  | G | Hooters of America, Inc.
| 20110369 | G | New York Life Insurance Company.
|  | G | Louis W. Moelchert, III GST Trust.
|  | G | Private Advisors, L.L.C.
15-DEC-10 | 20110201 | G | Hercules Holdings II, LLC.
|  | G | MedCath Corporation.
|  | G | Heart Hospital of San Antonio, L.P.
| 20110225 | G | Jarden Corporation.
|  | G | Avenia AG.
|  | G | Quickie Holdings, Inc.
| 20110307 | G | Sigma-Aldrich Corporation.
|  | G | Cerilliant Corporation.
|  | G | Cerilliant Corporation.
| 20110342 | G | Methodist Healthcare Ministries of South Texas, Inc.
|  | G | MedCath Corporation.
|  | G | Heart Hospital of San Antonio, L.P.
16-DEC-10 | 20110077 | G | Gavilon SuperHoldco, LLC.
|  | G | Paul E. DeBruce.
|  | G | DeBruce Grain, Inc.
| 20110245 | G | Cardinal Health, Inc.
|  | G | Stewart J. Rahr.
|  | G | Kinray, Inc.
| 20110257 | G | Platte River Ventures I, L.P.
|  | G | Mark Severns.
|  | G | Quality Forming, Inc.
| 20110362 | G | Carl C. Icahn.
|  | G | Reorganized MGM Holdings Inc.
|  | G | Reorganized MGM Holdings Inc.
| 20110366 | G | Reyes Holdings, L.L.C.
|  | G | Consolidated Companies, Inc.
|  | G | Consolidated Companies, Inc.
| 20110309 | G | Dayton-Cox Trust A.
|  | G | Jesse Biter.
|  | G | HomeNet Automotive, LLC.
|  | G | HomeNet, Inc.
| 20110371 | G | Addison Avenue Federal Credit Union.
|  | G | First Technology Credit Union.
|  | G | First Technology Credit Union.
| 20110374 | G | Lincolnshire Equity Fund IV, L.P.
|  | G | Ronald and Joan Beeman.
|  | G | Eddy Packing Company, Inc.
| 20110382 | G | Palladium Equity Partners III, L.P.
|  | G | Jordan Healthcare Holdings, Inc.
|  | G | Jordan Healthcare Holdings, Inc.
| 20110388 | G | Uni-Select Inc.
|  | G | LDI Ltd., LLC.
|  | G | FinishMaster, Inc.
| 20110400 | G | Water Street Healthcare Partners, L.P.
|  | G | Adam F. Press.
|  | G | The St. John Companies, Inc.

FOR FURTHER INFORMATION CONTACT: Sandra M. Peay, Contact Representative, or Renee Chapman, Contact Representative, Federal Trade Commission, Premerger Notification Office, Bureau of Competition, Room H-303, Washington, DC 20580. (202) 326-3100.

By Direction of the Commission.
Donald S. Clark,
Secretary.

[FR Doc. 2010-32716 Filed 12-28-10; 8:45 am]

BILLING CODE 6750-01-M